DEPARTMENT OF TRANSPORTATION

Federal Aviation Administration

14 CFR Part 25

[Docket No. NM217; Special Conditions No. 25-209-SC]

Special Conditions: Boeing Commercial Airplane Group, Boeing Model 747-400 Series Airplane; Forward Lower Lobe (Service/Cargo) Compartment

AGENCY: Federal Aviation Administration (FAA), DOT.

ACTION: Final special conditions.

SUMMARY: These special conditions are issued for the Boeing Model 747-400 series airplane. This airplane, as modified by the Boeing Commercial Airplane Group, Wichita, Kansas, will have novel or unusual design features associated with the installation of a forward lower lobe compartment that will have two functions: that of a service compartment and that of a class C cargo compartment. The applicable airworthiness regulations do not contain adequate or appropriate safety standards for this design feature. These special conditions contain the additional safety standards that the Administrator considers necessary to establish a level of safety equivalent to that established by the existing airworthiness standards.

EFFECTIVE DATE: September 30, 2002.

FOR FURTHER INFORMATION CONTACT: Mark Quam, FAA, Standardization Branch, ANM-113, Transport Airplane Directorate, Aircraft Certification Service, 1601 Lind Avenue SW., Renton, Washington, 98055-4056; telephone (425) 227-2145; facsimile (425) 227-1149.

SUPPLEMENTARY INFORMATION:

Background

On January 3, 2001, Boeing Commercial Airplane Group (BCAG)—Wichita Division Designated Alteration Station (DAS) applied for a supplemental type certificate for the installation, in a Boeing Model 747-400 series airplane, of a forward lower lobe compartment that combines two functions: that of a service compartment and that of a class C cargo compartment. The Boeing Model 747-400 series airplane, currently approved under Type Certificate A20WE, is a large transport category airplane with upper and main passenger decks. The main deck is limited to 550 passengers or less and the upper deck is limited to 110 passengers or less, depending on the interior configuration. Cargo compartments are installed below the main deck. The airplane is driven by four high-bypass turbojet engines capable of a static thrust in excess of 43,000 pounds.

The 747-400 configuration proposed for certification is an interim, but certifiable, configuration. The final interior will be installed by another modifier at a later date. Boeing proposes to certificate the model with the forward half of the main deck open and the aft half of the main deck configured for passengers. However, the main deck and upper deck will be certificated with limitations specifying zero occupancy and zero cargo.

Boeing proposes to modify the configuration defined above by installing a stair from the main deck to the forward lower lobe cargo compartment and proposes to use the forward cargo compartment as a service area and as a class C cargo compartment. Further, an air-stair would be installed to allow walk-in access from the ground to the forward lower lobe (service/cargo) compartment. The forward lower lobe (service/cargo) compartment design would have provisions for flammability and smoke protection. Access would be limited to one trained crewmember and access would be allowed during flight but not during taxi, takeoff and landing, or during a fire.

To accommodate access into the forward lower lobe (service/cargo) compartment by a crewmember, Boeing proposes appropriate warning and emergency equipment will be installed as defined for a lower lobe service compartment in § 25.819. A flight attendant seat will be installed in the forward lower lobe (service/cargo) compartment for in-flight emergency use only. The seat will be located so that it meets all certification requirements for attendant seating. Speakers, warning lights, and buzzers will be installed in the forward lower lobe (service/cargo) compartment to warn the crewmember occupant of turbulent conditions, smoke detection, or the need to leave the area. A crew interphone will be provided for communications with the flight deck. In addition, emergency oxygen equipment will be provided as appropriate.

Boeing proposes the forward lower lobe (service/cargo) compartment will meet the class C requirements of § 25.857(c) and will include an approved built-in fire extinguisher or suppression system controllable from the cockpit. In the event of a fire, the forward lower lobe (service/cargo) compartment will be evacuated, and the pilot will initiate a Halon suppression system. A means will be provided to prevent inadvertent access to the compartment when the fire suppression system has been activated. The intention of the fire suppression system is to eliminate the necessity for sending someone into the compartment to fight a fire.

The existing regulations address a service area and a class C cargo compartment as independent compartments, but do not address one compartment that has two uses. The service compartment can be occupied and the class C cargo compartment cannot. Further, fire fighting is dealt with differently in each compartment. The crew fights a fire in a service compartment and a flooding extinguisher system is used to fight a fire in a class C cargo compartment. The concept Boeing proposes may be acceptable if it can be assured that when the compartment is used for either function, a level of safety would be achieved that would be equivalent to compartment installations that are independent. Therefore, special conditions requiring warnings, limitations, and equipment installations are issued to achieve a level of safety that would allow a lower lobe compartment to be used as a service compartment or a class C cargo compartment when the aircraft is to be certificated in a similar configuration to that which Boeing proposes (i.e. forward lower lobe compartment with stair access, emergency escape routes, etc.).

Type Certification Basis

Under the provisions of § 21.101 Amendment 21-69, effective September 16, 1991, the Boeing Commercial Airplane Group must show that the Model 747-400 series airplane, as changed, continues to meet the applicable provisions of the regulations incorporated by reference in Type Certificate A20WE or the applicable regulations in effect on the date of application for the change. Subsequent changes have been made to § 21.101 as part of Amendment 21-77, but those changes do not become effective until June 10, 2003. The regulations incorporated by reference in the type certificate are commonly referred to as the “original type certification basis.” The regulations incorporated by reference in Type Certificate A20WE for the Boeing Model 747-400 series airplanes include 14 CFR part 25, as amended by Amendments 25-1 through 25-70, with certain exceptions listed in the type data sheet. The U.S. type certification basis for the Boeing Model 747-400 series airplane is established in accordance with 14 CFR 21.17 and 21.21 and the type certification application date. The type certification basis is listed in Type Certificate Data Sheet No. A20WE.

If the Administrator finds that the applicable airworthiness regulations (i.e., 14 CFR part 25) do not contain adequate or appropriate safety standards for the Boeing Model 747-400 series airplane because of a novel or unusual design feature, special conditions are prescribed under the provisions of § 21.16.

In addition to the applicable airworthiness regulations and special conditions, the Boeing Model 747-400 series airplane must comply with the fuel vent and exhaust emission requirements of 14 CFR part 34 and the noise certification requirements of 14 CFR part 36.

Special conditions, as defined in § 11.19, are issued in accordance with § 11.38 and become part of the type certification basis in accordance with § 21.101(b)(2) Amendment 21-69, effective September 16, 1991.

Special conditions are initially applicable to the model for which they are issued. Should the applicant apply for a supplemental type certificate to modify any other model included on the same type certificate to incorporate the same novel or unusual design feature, the special conditions would also apply to the other model under the provisions of § 21.101(a)(1) Amendment 21-69, effective September 16, 1991.

Novel or Unusual Design Features

The Boeing Model 747-400 series airplane will incorporate the following novel or unusual design features: the forward lower lobe compartment will be used as a combined service area/class C cargo compartment.

Discussion

The requirements listed in these special conditions are developed to allow the use of the forward lower lobe as a service compartment and as a class C cargo compartment during flight conditions. To make this concept work, these special conditions establish communication, warning, and personal safety requirements, because the existing requirements, §§ 25.819 versus 25.855, 25.857, and 25.858, are exclusive. As an example, to use the fire control system of a class C cargo compartment, the compartment must not be occupied because the means of fire control is to flood the compartment with fire suppressant.

The applicant has not proposed provisions satisfying regulatory requirements for occupancy of the forward lower lobe (service/cargo) compartment during taxi, takeoff, and landing. Therefore, the FAA will apply appropriate limitations for taxi, takeoff, and landing.

The approach to establishing requirements for a common compartment with two uses is to apply the existing requirements for a service compartment when used as a service compartment and for cargo compartments when used as a class C compartment, and to propose special conditions where the rules are inadequate to address the functionality of both.

Special Condition 1

Currently, § 25.819 addresses a service compartment, which can be occupied, but does not need to be evacuated under certain normal conditions or under certain unsafe conditions (e.g., in the case of fire, the occupant could function as a firefighter). The class C cargo compartment requirements address a stand-alone cargo compartment that is not occupied; fire detection is automatic and suppression relies on a total flood system. To maintain the advantages of both a service compartment and a class C cargo compartment, certain warnings need to be addressed.

Special Condition 1(a)

Special Condition 1(a) will require a visual means in the cockpit to advise the flightcrew when the forward lower lobe (service/cargo) compartment is occupied. The potential exists that the forward lower lobe (service/cargo) compartment may inadvertently be occupied when it is not supposed to be, such as during taxi, takeoff and landing, or during certain emergency events. This requirement ensures the flightcrew is aware of that situation and can take appropriate action to evacuate the forward lower lobe before flooding the compartment with fire suppressant agent. The advisory should be clear as to its intent, either by light with placard or lighted advisory message or equivalent.

Special Condition 1(b)

Special Condition 1(b) will require an “on/off” visual advisory/warning stating “Do Not Enter” (or similar words) to be located outside and on or near the entrance door from the main deck to the forward lower lobe (service/cargo) compartment. The advisory/warning is to be controlled from the flight deck. This is to prevent someone entering the forward lower lobe (service/cargo) compartment when it is not supposed to be occupied. Those conditions exist during taxi, takeoff and landing, and if smoke or fire is detected. Opening the door during a fire would, among other things, degrade the effectiveness of the fire suppressant and allow smoke, flame, and/or suppressant into the cabin.

Special Condition 1(c)

Special Condition 1(c) will require a visible and audible advisory/warning means in the forward lower lobe (service/cargo) compartment to notify the occupant that the occupant must exit the forward lower lobe (service/cargo) compartment. To be effective, the visible and audible advisory/warning must be able to be seen and heard from any part of the compartment. The visible and audible advisory/warning is to be controlled from the flight deck. As the forward lower lobe (service/cargo) compartment may be occupied on the ground or in the air, a means must be provided to notify the occupant to exit the compartment prior to taxi, takeoff and landing, or during certain emergency conditions (other than fire, which is dealt with under Special Condition 1(e)). A visual advisory/warning is included in case the audible warning were to become masked or distorted by engine, equipment, or ground noises.

Special Condition 1(d)

Special condition 1(d) will require a means (visible and audible) to notify the occupant of the forward lower lobe (service/cargo) compartment of the need to put on supplemental oxygen equipment in the event of a decompression. As the occupant could be anywhere in the forward lower lobe (service/cargo) compartment, the means should be heard and be visible from anywhere in the forward lower lobe (service/cargo) compartment. Further, the warning should be distinct from other warnings in the forward lower lobe (service/cargo) compartment to prevent confusion and inappropriate action. An automatic decompression warning (i.e., not requiring a separate crew action) ensures that the forward lower lobe (service/cargo) compartment occupant does not delay putting on the oxygen equipment. This section of the special conditions is partially in lieu of the visual effect provided by the automatic presentation feature required by § 25.1447.

Special Condition 1(e)

Special Condition 1(e) will require a visible and audible means to warn the occupant of the forward lower lobe (service/cargo) compartment of the need to evacuate the forward lower lobe (service/cargo) compartment if a fire is detected. The means must be heard and be visible from anywhere in the forward lower lobe (service/cargo) compartment and must be distinct from other warnings in the forward lower lobe (service/cargo) compartment in order to prevent confusion and to elicit correct action. The fire/smoke detection warning in the forward lower lobe (service/cargo) compartment must be automatic (i.e., not requiring or depending on a separate crew action), to ensure that the occupant exits the forward lower lobe (service/cargo) compartment prior to the flight deck crew releasing the fire suppressant agent.

Special Condition 2

The lower lobe (service/cargo) compartment must be evacuated if a fire occurs. Further, a means must be provided to prevent access into the compartment during taxi, takeoff or landing, and in the event of a fire. Placards and limitations assist in these situations.

Special Condition 2(a)

Special Condition 2(a) will require a placard to be located outside the forward lower lobe (service/cargo) compartment door to limit access to the forward lower lobe (service/cargo) compartment to one crewmember trained in evacuation means. The accommodations and emergency support equipment provided necessitate limiting access (i.e., one seat, one oxygen bottle, one protective breathing device, one fire extinguisher, etc.).

Special Condition 2(b)

Special Condition 2(b) will require placards, located inside and outside the forward lower lobe (service/cargo) compartment door, stating that the compartment door must remain closed except when entering and leaving the compartment. The smoke/fire detection and suppression systems are certified with the door closed, and the door needs to remain closed to retain their certified characteristics and to be effective. In the event the single occupant falls asleep in the chair provided, the smoke alarm will still function and a warning will be provided to warn the occupant to exit the compartment.

Special Condition 2(c)

Special Condition 2(c) will require a limitation be placed in the airplane flight manual (AFM) and placards be posted inside and outside the forward lower lobe (service/cargo) compartment door, all stating that the forward lower lobe (service/cargo) compartment may not be occupied during taxi, takeoff, landing, or during a fire emergency. These placards are being specified because the compartment is not being certified as occupied during taxi, takeoff, and landing and because the cargo compartment must not be occupied during a fire so that the occupant is not exposed to the fire and suppressant. These placards are somewhat redundant to the advisory required under 1(b) and 1(c), but have the benefit of the information being available to the occupant in the event the flightcrew fails to activate the advisory/warnings of 1(b) and 1(c).

Special Condition 2(d)

Special Condition 2(d), with respect to the forward lower lobe (service/cargo) compartment, will require the AFM supplement include flight deck crew instructions for: allowing access; procedures for fire/smoke/detection/fire fighting; procedures for decompression; and limitations prohibiting occupancy during taxi, takeoff, and landing. Further, this special condition would require that the weight and balance manual include cargo loading restrictions requiring cargo to be loaded and restrained in a manner so that escape paths are maintained. These actions are to ensure the single flightcrew member can safely access the cargo compartment during flight and exit safely during failure conditions.

Special Condition 2(e)

Because access is being provided to the forward lower lobe (service/cargo) compartment, there is a concern that, during flight, passengers may retrieve hazardous materials and weapons stored in luggage. Ideally, access could be prevented by locking the forward lower lobe (service/cargo) compartment and that is one solution (Special Condition 2(e)(1)). However, this airplane is being designed for private use, will have limited access, and will have placards limiting access. Further, there is notification to the flightcrew if the forward lower lobe (service/cargo) compartment is occupied (Special Condition 1(a)). Therefore, as an alternative to locking the lower lobe (service/cargo) compartment, in addition to limiting access under Special Conditions 2(a) and 2(d), prohibiting the airplane from being operated for hire, or offered for common carriage, is issued (Special Condition 2(e)(2)).

Special Condition 3

Special Condition 3 will require equipment in addition to that required by § 25.819.

Special Condition 3(a)

Special Condition 3(a) will require availability at all times of portable oxygen equipment sufficient to supply a crewmember who is allowed to occupy (except during taxi, takeoff and landing, and a fire) the forward lower lobe (service/cargo) compartment. It was first proposed that the oxygen bottle be stored inside the cargo compartment near the seat, along with a portable extinguisher and a protective breathing device. Because the portable oxygen bottle would not be immediately available (a requirement of § 25.1447(c)(1)) in the event of rapid decompression, and it would not be advisable to provide drop-down masks in a cargo compartment or store a portable oxygen bottle in the compartment (even though the bottle would be afforded some protection), the FAA elected to propose that a portable oxygen bottle be mounted at the outside of the main deck entrance of the forward lower lobe (service/cargo) compartment, along with a placard that specifies that anyone entering the forward lower lobe (service/cargo) compartment during flight must carry portable oxygen equipment on their person for the entire time that they are in the compartment.

Special Condition 3(b)

Special Condition 3(b) will require at least one readily accessible hand-held fire extinguisher and one 15-minute protective breathing equipment device be located within the forward lower lobe (service/cargo) compartment adjacent to the seat. This ensures the occupant has the means to exit the compartment if a fire occurs between the occupant and the exit.

Special Condition 3(c)

Special Condition 3(c) will require, in addition to the two evacuation routes (including exit) requirements of § 25.819(a), a means to keep the evacuation routes clear. The cargo in the compartment should be restrained to ensure that the crewmember's paths to the exits are clear. Further, all entrances and exits from the forward lower lobe (service/cargo) compartment must be capable of being closed after exiting. In addition to the concern for cargo blocking the escape paths, there is the concern about hazardous quantities of smoke, flames, or fire suppressant agent entering any compartments occupied by passengers or crew and the concern about the loss of fire suppressant agent from the compartment during a fire. The forward lower lobe (service/cargo) compartment must be capable of being closed off because, after evacuation, it must comply with the requirements applicable to the class C cargo compartment, including §§ 25.855, 25.857, and 25.858.

Special Condition 3(d)

Special Condition 3(d) will require supplemental handheld lighting (with locator light) in the event the occupant is in the forward lower lobe (service/cargo) compartment and power to the compartment or the emergency escape path lighting is off, or lost, or visibility is poor. At least two flashlights would be required. One flashlight would be located adjacent to the secondary emergency exit in the forward lower lobe (service/cargo) compartment at the foot of the stairs in the compartment. The other would be located adjacent to the seat in the forward lower lobe (service/cargo) compartment. Note that this action is in addition to the requirement for an automatic emergency lighting system required by § 25.819(a).

Special Condition 4

Special Condition 4 addresses training manuals and the training associated with the special conditions above for:

(a) Use and actions associated with the warnings and placards of these special conditions.

(b) Accessing and exiting the cargo forward lower lobe (service/cargo) compartment, including emergency exiting (includes those special conditions associated with Special Conditions 1(b), 1(c), 1(d), 1(e), 2(a), 2(b), 2(c), 2(d), and 3(b)).

(c) Checking the oxygen bottle's pressure for adequacy prior to entering the cargo compartment (associated with Special Condition 3(a)).

(d) Carrying the oxygen bottle when entering the forward lower lobe (service/cargo) compartment (associated with Special Condition 3(a)).

(e) Maintaining an exit path aisle and access to the evacuation routes (associated with Special Condition 3(c)).

Special Condition 5

Special Conditions 25-71-NW-3, which included criteria applicable to the stairs between the main deck and upper deck, were incorporated in the Model 747 series airplane certification basis on August 27, 1976. These special conditions have been reviewed, and sections 3(a)(1), 3(a)(2) and 3(a)(7) are proposed as applicable to the stair between the forward lower lobe (service/cargo) compartment and the main deck. These special conditions are renumbered and repeated as 5(a), 5(b), and 5(c).

Discussion of Comments

Notice of proposed special conditions No. 25-02-07-SC for the Boeing Model 747-400 series airplanes was published in the Federal Register on July 1, 2002 (67 FR 44111). No comments were received, and the special conditions are adopted as proposed.

Applicability

As discussed above, these special conditions are applicable to the Boeing Model 747-400 series airplane. Should Boeing Commercial Airplane Group apply at a later date for a supplemental type certificate to modify any other model included on Type Certificate A20WE to incorporate the same novel or unusual design feature, the special conditions would apply to that model as well under the provisions of § 21.101(a)(1) Amendment 21-69, effective September 16, 1991.

Under standard practice, the effective date of final special conditions would be 30 days after the date of publication in the Federal Register; however, as the certification date for the Boeing Model 747-400 series airplane is imminent, the FAA finds that good cause exists to make these special conditions effective upon issuance.

Conclusion

This action affects only certain novel or unusual design features on one model of airplane. It is not a rule of general applicability, and it affects only the applicant who applied to the FAA for approval of these features on the airplane.

List of Subjects in 14 CFR Part 25

Aircraft, Aviation safety, Reporting and recordkeeping requirements.

The authority citation for these special conditions is as follows:

Authority: 49 U.S.C. 106(g), 40113, 44701, 44702, 44704.

The Special Conditions

Accordingly, pursuant to the authority delegated to me by the Administrator, the following special conditions are issued as part of the type certification basis for Boeing Model 747-400 airplanes modified by Boeing Commercial Airplane Group, Wichita Division Designated Alteration Station, with a forward lower lobe configured for use as a service compartment and a class C cargo compartment.

1. Required Warnings (in addition to fire/smoke detection and decompression aural warnings required in § 25.819(c)):

(a) There must be a visual means in the cockpit to advise the flightcrew when the forward lower lobe (service/cargo) compartment is occupied. The advisory light should be accompanied by a placard or message indicating someone is in the forward lower lobe (service/cargo) compartment.

(b) There must be an “on/off” visual advisory/warning stating “Do Not Enter” (or similar words) to be located outside and on or near the entrance door to the forward lower lobe (service/cargo) compartment. The advisory/warning is to be controlled from the flight deck.

(c) There must be a visible and audible advisory/warning means in the forward lower lobe (service/cargo) compartment to notify the occupant that the occupant must exit the forward lower lobe (service/cargo) compartment. The visible and audible warning must be seen and heard from any part of the forward lower lobe (service/cargo) compartment. The visible and audible advisory/warning is to be controlled from the flight deck.

(d) A means (visible and audible) must be provided to notify the occupant of the forward lower lobe (service/cargo) compartment of the need to put on supplemental oxygen equipment in the event of a decompression. The means must be heard and be visible from anywhere in the forward lower lobe (service/cargo) compartment and be distinct from other warnings in the forward lower lobe (service/cargo) compartment. This decompression warning should be automatic (i.e., not requiring a separate crew action), to ensure that the forward lower lobe (service/cargo) compartment occupant does not delay putting on the oxygen equipment. This section of the special conditions is partially in lieu of the visual effect provided by the automatic presentation feature required by § 25.1447.

(e) A means (visible and audible) must be provided to warn the occupant of the forward lower lobe (service/cargo) compartment of the need to evacuate the forward lower lobe (service/cargo) compartment at fire detection. The means must be heard and be visible from anywhere in the forward lower lobe (service/cargo) compartment and be distinct from other warnings in the forward lower lobe (service/cargo) compartment. The fire/smoke detection warning in the forward lower lobe (service/cargo) compartment must be automatic (i.e., not requiring a separate crew action), to ensure that the occupant exits the forward lower lobe (service/cargo) compartment prior to the flight deck crew releasing fire suppressant agent.

2. Required Placards and Limitations (beyond those required in Part 25):

(a) There must be a placard located outside the forward lower lobe (service/cargo) compartment door limiting access to the forward lower lobe (service/cargo) compartment to one crewmember trained in evacuation means.

(b) There must be placards located inside and outside the forward lower lobe (service/cargo) compartment door stating that the forward lower lobe (service/cargo) compartment door must remain closed except when entering and leaving the compartment.

(c) A limitation must be placed in the airplane flight manual (AFM) supplement and placards must be posted inside and outside the forward lower lobe (service/cargo) compartment door, all stating that the forward lower lobe (service/cargo) compartment may not be occupied during taxi, takeoff, landing, or during a fire emergency.

(d) With respect to the forward lower lobe (service/cargo) compartment, the AFM supplement must include flight deck crew instructions for: allowing access; procedures for fire/smoke/detection/fire fighting; procedures for decompression; limitations prohibiting occupancy during taxi, takeoff, and landing. The weight and balance manual must include cargo loading restrictions to maintain escape paths.

(e) A limitation must be placed in the AFM Supplement stating: “Carriage of hazardous material and/or weapons in the forward lower lobe (service/cargo) compartment is prohibited” unless:

(1) Access to the compartment is locked during flight and the key to the lock remains with the flight deck crew only; or

(2) The airplane is not operated for hire, or offered for common carriage. This provision does not preclude the operator from receiving remuneration to the extent consistent with 14 CFR part 125, 14 CFR part 91, and subpart F, as applicable.

3. Required Equipment (in addition to that required by § 25.819):

(a) There must be portable oxygen equipment available at all times sufficient to supply a crewmember who is allowed to occupy the forward lower lobe (service/cargo) compartment (except during taxi, takeoff and landing, and a fire). The equipment is to be mounted at the outside of the main deck entrance to the forward lower lobe (service/cargo) compartment along with a placard specifying that anyone entering the forward lower lobe (service/cargo) compartment during flight must carry portable oxygen equipment on his/her person for the entire time that he/she is in the forward lower lobe (service/cargo) compartment.

(b) At least one readily accessible hand-held fire extinguisher and one 15-minute protective breathing equipment (PBE) device must be located within the forward lower lobe (service/cargo) compartment adjacent to the seat.

(c) In addition to the two evacuation route (including exit) requirements of § 25.819(a), a means must be provided to keep the evacuation routes clear ; i.e., cargo in the compartment should be restrained to ensure that the crewmember's paths to the exits are clear. All entrances and exits from the forward lower lobe (service/cargo) compartment must be capable of being closed after entering and exiting and, after closing, must prevent hazardous quantities of smoke, flames, or fire suppressant agent from entering any compartments occupied by passengers or crew and must prevent loss of fire suppressant agent during a fire.

(d) In addition to the emergency illumination required by § 25.829(a), there must be supplemental handheld lighting (with locator light) located within the forward lower lobe (service/cargo) compartment. At least two flashlights will be required. One flashlight must be located adjacent to the secondary emergency exit of the forward lower lobe (service/cargo) compartment. The other must be adjacent to the seat in the forward lower lobe (service/cargo) compartment.

4. Training manuals and training must include:

(a) Use and actions associated with warnings and placards specified herein.

(b) Accessing and exiting the cargo forward lower lobe (service/cargo) compartment, including emergency exiting.

(c) Checking the oxygen bottle's pressure for adequacy prior to entering the forward lower lobe (service/cargo) compartment.

(d) Carrying the oxygen bottle when entering the forward lower lobe (service/cargo) compartment.

(e) Maintaining exit path aisle and access for the evacuation routes.

5. The stairway between the forward lower lobe (service/cargo) compartment and the main deck (applicable portions excerpted from Special Conditions 25-71-NM-3 issued August 27, 1976) must meet the following requirements:

(a) The stairway must have essentially straight route segments with a landing at each significant change in segment direction.

(b) The stairs must have essentially rectangular treads.

(c) General illumination must be provided so that, when measured along the centerlines of each tread and landing, the illumination is not less than .05 foot-candle.

Issued in Renton, Washington, on September 30, 2002.
Ali Bahrami,
Acting Manager, Transport Airplane Directorate, Aircraft Certification Service.

[FR Doc. 02-25707 Filed 10-9-02; 8:45 am]

BILLING CODE 4910-13-P